DEPARTMENT OF VETERANS AFFAIRS

Veterans Rural Health Advisory Committee, Notice of Meeting Cancellation

The Department of Veterans Affairs (VA) gives notice under the Federal Advisory Committee Act, 5 U.S.C. Ch. 10., that the Veterans Rural Health Advisory Committee previously scheduled to be held on October 29, 2025, has been cancelled due to a lapse in appropriations.

For more information, please contact Mr. Peter Kaboli, Designated Federal Officer, at (319) 338-0581 x633863 or via email at Peter.Kaboli@va.gov.

Dated: October 15, 2025.
LaTonya L. Small,
Federal Advisory Committee Management Officer.

[FR Doc. 2025-19592 Filed 10-17-25; 8:45 am]

BILLING CODE 8320-01-P